AGENCY FOR INTERNATIONAL DEVELOPMENT

22 CFR Part 203

Registration of Agencies for Voluntary Foreign Aid

AGENCY: United States Agency for International Development (USAID).

ACTION: Final rule.

SUMMARY: This final rule amends USAID regulations on Registration of Agencies for Voluntary Foreign Aid. Registration is required for U.S. private and voluntary organizations (PVO) to become eligible for most USAID grant funds. The final rule clarifies registration conditions by adding an express criterion for denying or withdrawing registration.

EFFECTIVE DATE: September 11, 2000.

FOR FURTHER INFORMATION CONTACT: Mary Newton, Registrar, Office of Private and Voluntary Cooperation, USAID, telephone 202-712-4747; telefax (202) 216-3041.

SUPPLEMENTARY INFORMATION: The U.S. Agency for International Development's registration process identifies PVOs engaged in foreign assistance operations and determines whether they meet established criteria to be eligible for resources intended for PVOs. Registration is the initial criterion of eligibility for U.S. PVOs to compete for most forms of USAID assistance. Registration is not required for organizations working under contract with USAID. The regulation at 22 CFR Part 203 was published as a final rule January 21, 1983 (48 FR 2760). After operating under the regulation for a number of years it has been determined that part 203 needs revision and clarification. Under its required procedures, the Agency has conducted a review of the PVO registration process and determined that the final rule is necessary to ensure the Agency identifies suitable, qualified PVOs for registration. The final rule will clarify the Conditions of Registration and Documentation Requirements to identify which U.S.-based PVOs are eligible for USAID resources. USAID has determined that the final rule will not have a substantial direct effect on the States, on the relationship between the national Government and the States, or on the distribution of power and responsibilities among the various levels of government. Therefore, it is determined that this proposal would not have federalism implications under Executive Order 13132. USAID has determined also that 5 U.S.C. 553 and Executive Order 12866 are not applicable to this final rule because its subject matter involves foreign affairs functions of the United States. This final rule will have no significant economic impact on a substantial number of small entities under the Regulatory Flexibility Act, nor does it establish any collection of information as contemplated by the Paperwork Reduction Act.

List of Subjects in 22 CFR Part 203

Foreign aid, Nonprofit organizations, Reporting and recordkeeping requirements.

Accordingly 22 CFR Part 203 is amended as follows:

PART 203—REGISTRATION OF AGENCIES FOR VOLUNTARY FOREIGN AID

1. The authority citation for Part 203 continues to read as follows:

Authority: Sec. 621, Foreign Assistance Act of 1961, as amended (22 U.S.C. 2381).

2. Section 203.2 is amended by adding new paragraph (i) to read as follows:

§ 203.2 Conditions of registration and documentation requirements for U.S. private and voluntary organizations.

* * * * *

(i) Condition and documentation requirement no. 9—(1) Condition. That the applicant is not:

(i) Suspended or debarred by an agency of the United States Government;

(ii) Designated as a foreign terrorist organization by the Secretary of State pursuant to section 219 of the Immigration and Nationality Act, as amended; or

(iii) The subject of a decision by the Department of State to the effect that registration, or a financial relationship between USAID and the organization, is contrary to the national defense, national security, or foreign policy interests of the United States.

(2) Documentation requirement. None.

Dated: September 5, 2000.
Hugh Q. Parmer,
Assistant Administrator, Bureau for Humanitarian Response, United States Agency for International Development.

[FR Doc. 00-23167 Filed 9-8-00; 8:45 am]

BILLING CODE 6116-01-M